DEPARTMENT OF LABOR

Occupational Safety and Health Administration

[Docket No. NRTL1-2001]

TUV Product Services GmbH, Application for Expansion of Recognition

AGENCY: Occupational Safety and Health Administration (OSHA), Labor.

ACTION: Notice.

SUMMARY: This notice announces the application of TUV Product Services GmbH for expansion of its recognition as a Nationally Recognized Testing Laboratory under 29 CFR 1910.7, and presents the Agency's preliminary finding. This preliminary finding does not constitute an interim or temporary approval of this application.

DATES: You may submit comments in response to this notice, or any request for extension of the time to comment, by (1) regular mail, (2) express or overnight delivery service, (3) hand delivery, (4) messenger service, or (5) FAX transmission (facsimile). Because of security-related problems there may be a significant delay in the receipt of comments by regular mail. Comments (or any request for extension of the time to comment) must be submitted by the following dates:

Regular mail and express delivery service: Your comments must be postmarked by February 10, 2003.

Hand delivery and messenger service: Your comments must be received in the OSHA Docket Office by February 10, 2003. OSHA Docket Office and Department of Labor hours of operation are 8:15 a.m. to 4:45 p.m.

Facsimile and electronic transmission: Your comments must be sent by February 10, 2003.

ADDRESSES: Regular mail, express delivery, hand-delivery, and messenger service: You must submit three copies of your comments and attachments to the OSHA Docket Office, Docket NRTL1-2001, Room N-2625, U.S. Department of Labor, Occupational Safety and Health Administration, 200 Constitution Avenue, NW., Washington, DC 20210. Please contact the OSHA Docket Office at (202) 693-2350 for information about security procedures concerning the delivery of materials by express delivery, hand delivery and messenger service.

Facsimile: If your comments, including any attachments, are 10 pages or fewer, you may fax them to the OSHA Docket Office at (202) 693-1648. You must include the docket number of this notice, Docket NRTL1-2001, in your comments.

Internet access to comments and submissions: OSHA will place comments and submissions in response to this notice on the OSHA Webpage http://www.osha.gov. Accordingly, OSHA cautions you about submitting information of a personal nature (e.g., social security number, date of birth). There may be a lag time between when comments and submissions are received and when they are placed on the Webpage. Please contact the OSHA Docket Office at (202)693-2350 for information about materials not available through the OSHA Webpage and for assistance in using the Webpage to locate docket submissions. Comments and submissions will also be available for inspection and copying at the OSHA Docket Office at the address above.

Extension of Comment Period: Submit requests for extensions concerning this notice to: Office of Technical Programs and Coordination Activities, NRTL Program, Occupational Safety and Health Administration, U.S. Department of Labor, Room N3653, 200 Constitution Avenue, NW., Washington, DC 20210. Or fax to (202) 693-1644.

FOR FURTHER INFORMATION CONTACT: Bernard Pasquet, Office of Technical Programs and Coordination Activities, NRTL Program, Room N3653 at the address shown immediately above for the program, or phone (202) 693-2110.

SUPPLEMENTARY INFORMATION:

Notice of Application

The Occupational Safety and Health Administration (OSHA) hereby gives notice that TUV Product Services GmbH (TUVPSG) has applied for expansion of its current recognition as a Nationally Recognized Testing Laboratory (NRTL). TUVPSG's expansion request covers the use of additional test standards. OSHA's current scope of recognition for TUVPSG may be found in the following informational web page: http://www.osha-slc.gov/dts/otpca/nrtl/tuvpsg.html.

OSHA recognition of any NRTL signifies that the organization has met the legal requirements in § 1910.7 of title 29, Code of Federal Regulations (29 CFR 1910.7). Recognition is an acknowledgment that the organization can perform independent safety testing and certification of the specific products covered within its scope of recognition and is not a delegation or grant of government authority. As a result of recognition, employers may use products “properly certified” by the NRTL to meet OSHA standards that require testing and certification.

The Agency processes applications for initial recognition or for expansion or renewal of this recognition following requirements in Appendix A to 29 CFR 1910.7. This appendix requires that the Agency publish two notices in the Federal Register in processing an application. In the first notice, OSHA announces the application and provides its preliminary finding and, in the second notice, the Agency provides its final decision on an application. These notices set forth the NRTL's scope of recognition or modifications of this scope. We maintain an informational web page for each NRTL, which details its scope of recognition. These pages can be accessed from our Web site at http://www.osha-slc.gov/dts/otpca/nrtl/index.html.

The most recent notices published by OSHA for TUVPSG's recognition covered its initial recognition, which became effective on July 20, 2001 (66 FR 38032).

The current address of the facility (site) that OSHA recognizes for TUVPSG is: TUV Product Services GmbH, Ridlerstrasse 65, D-80339, Munich, Germany.

General Background on the Application

TUVPSG has submitted an application, dated August 1, 2002 (see Exhibit 7), to expand its recognition to use 46 additional test standards. The NRTL Program staff has determined that two test standards cannot be included in the expansion because they are not “appropriate test standards,” within the meaning of 29 CFR 1910.7(c). The staff makes similar determinations in processing expansion requests from any NRTL. Therefore, OSHA would approve 44 test standards for the expansion, which are listed below. One of the test standards requested by TUVPSG, UL 3101-2-20, is listed below using its current designation, UL 61010A-2-020.

As part of OSHA's regular audit of TUVPSG, NRTL Program assessment staff learned of TUVPSG's planned request for expansion and reviewed the NRTL's capability to test to the standards listed below. In a memo, dated July 31, 2002, (see Exhibit 8) the OSHA assessor recommended the expansion request.

TUVPSG seeks recognition for testing and certification of products for demonstration of conformance to the following 44 additional test standards.

UL 197 Commercial Electric Cooking Appliances

UL 250 Household Refrigerators and Freezers

UL 429 Electrically Operated Valves

UL 474 Dehumidifiers

UL 484 Room Air Conditioners

UL 499 Electric Heating Appliances

UL 749 Household Dishwashers

UL 859 Household Electric Personal Grooming Appliance

UL 873 Temperature-Indicating and -Regulating Equipment

UL 921 Commercial Electric Dishwashers

UL 923 Microwave Cooking Appliances

UL 935 Fluorescent-Lamp Ballasts

UL 982 Motor-Operated Household Food Preparing Machines

UL 998 Humidifiers

UL 1004 Electric Motors

UL 1005 Electric Flatirons

UL 1026 Electric Household Cooking and Food Serving Appliances

UL 1082 Household Electric Coffee Makers and Brewing-Type Appliances

UL 1083 Household Electric Skillets and Frying-Type Appliances

UL 1278 Movable and Wall- or Ceiling-Hung Electric Room Heaters

UL 1310 Class 2 Power Units

UL 1411 Transformers and Motor Transformers for Use In Audio-, Radio-, and Television-Type Appliances

UL 1431 Personal Hygiene and Health Care Appliances

UL 1492 Audio-Video Products and Accessories

UL 1594 Sewing and Cutting Machines

UL 1647 Motor-Operated Massage and Exercise Machines

UL 1993 Self-Ballasted Lamps and Lamp Adapters

UL 2601-1 Medical Electrical Equipment, Part 1: General Requirements for Safety

UL 60335-1 Safety of Household and Similar Electrical Appliances, Part 1; General Requirements

UL 60335-8 Household and Similar Electrical Appliances, Part 2: Particular Requirements for Shavers, Hair Clippers, and Similar Appliances

UL 60335-2-34 Household and Similar Electrical Appliances, Part 2; Particular Requirements for Motor-Compressors

UL 60730-1A Automatic Electrical Controls for Household and Similar Use; Part 1: General Requirements

UL 60730-2-7 Automatic Electrical Controls for Household and Similar Use; Part 2: Particular Requirements for Timers and Time Switches

UL 60730-2-10A Automatic Electrical Controls for Household and Similar Use; Part 2: Particular Requirements for Motor Starting Relays

UL 60730-2-11A Automatic Electrical Controls for Household and Similar Use; Part 2: Particular Requirements for Energy Regulators

UL 60730-2-12A Automatic Electrical Controls for Household and Similar Use; Part 2: Particular Requirements for Electrically Operated Door Locks

UL 60730-2-13A Automatic Electrical Controls for Household and Similar Use; Part 2: Particular Requirements for Humidity Sensing Controls

UL 60730-2-14 Automatic Electrical Controls for Household and Similar Use; Part 2: Particular Requirements for Electric Actuators

UL 60730-2-16A Automatic Electrical Controls for Household and Similar Use; Part 2: Particular Requirements for Automatic Electrical Water Level Controls

UL 61010A-2-010 Electrical Equipment for Laboratory Use; Part 2: Particular Requirements for Laboratory Equipment for the Heating of Materials

UL 61010A-2-020 Electrical Equipment for Laboratory Use; Part 2: Particular Requirements for Laboratory Centrifuges

UL 61010A-2-041 Electrical Equipment for Laboratory Use; Part 2: Particular Requirements for Autoclaves Using Steam for the Treatment of Medical Materials and for Laboratory Processes

UL 61010A-2-051 Electrical Equipment for Laboratory Use; Part 2: Particular Requirements for Laboratory Equipment for Mixing and Stirring

UL 61010A-2-061 Electrical Equipment for Laboratory Use; Part 2: Laboratory Atomic Spectrometers with Thermal Atomization and Ionization

OSHA's recognition of TUVPSG, or any NRTL, for a particular test standard is limited to equipment or materials (i.e., products) for which OSHA standards require third party testing and certification before use in the workplace. Consequently, any NRTL's scope of recognition excludes any product(s) that fall within the scope of a test standard, but for which OSHA standards do not require NRTL testing and certification.

Many of the UL test standards listed above also are approved as American National Standards by the American National Standards Institute (ANSI). However, for convenience, we use the designation of the standards developing organization (e.g., UL 1026) for the standard, as opposed to the ANSI designation (e.g., ANSI/UL 1026). Under our procedures, any NRTL recognized for an ANSI-approved test standard may use either the latest proprietary version of the test standard or the latest ANSI version of that standard. (Contact ANSI or the ANSI Web site (http://www.ansi.org) and click “NSSN” to find out whether or not a test standard is currently ANSI-approved.)

Preliminary Finding

TUVPSG has submitted an acceptable request for expansion of its recognition. As previously mentioned, in connection with the request, OSHA has performed an on-site review (evaluation) of TUVPSG's testing capability relative to the standards listed above. The NRTL has resolved any discrepancies noted by the assessor following the review, and the assessor factored such resolution into the memo on the recommendation (see Exhibit 8).

Following a review of the application file, the assessor's memo, and other pertinent information, the NRTL Program staff has concluded that OSHA can grant to TUVPSG the expansion of recognition to include the test standards listed above. The staff therefore recommended to the Assistant Secretary that the application be preliminarily approved, subject to the above condition.

Based upon the recommendations of the staff, the Assistant Secretary has made a preliminary finding that TUV Product Services GmbH can meet the requirements as prescribed by 29 CFR 1910.7 for the expansion of recognition, subject to the above condition. This preliminary finding, however, does not constitute an interim or temporary approval of the applications for TUVPSG.

OSHA welcomes public comments, in sufficient detail, as to whether TUVPSG has met the requirements of 29 CFR 1910.7 for expansion of its recognition as a Nationally Recognized Testing Laboratory. Your comments should consist of pertinent written documents and exhibits. To consider a comment, OSHA must receive it at the address provided above (see ADDRESSES), no later than the last date for comments (see DATES above). Should you need more time to comment, OSHA must receive your written request for extension at the address provided above no later than the last date for comments. You must include your reason(s) for any request for extension. OSHA will limit any extension to 30 days, unless the requester justifies a longer period. We may deny a request for extension if it is frivolous or otherwise unwarranted. You may obtain or review copies of TUVPSG's request, the assessor's memo, and all submitted comments, as received, by contacting the Docket Office, Room N2625, Occupational Safety and Health Administration, U.S. Department of Labor, at the above address. Docket No. NRTL1-2001 contains all materials in the record concerning TUVPSG's application.

The NRTL Program staff will review all timely comments and, after resolution of issues raised by these comments, will recommend whether to grant TUVPSG's expansion request. The Assistant Secretary will make the final decision on granting the expansion, and in making this decision, may undertake other proceedings that are prescribed in Appendix A to 29 CFR 1910.7. OSHA will publish a public notice of this final decision in the Federal Register.

Signed in Washington, DC this 15th day of January, 2003.
John L. Henshaw,
Assistant Secretary.

[FR Doc. 03-1602 Filed 1-23-03; 8:45 am]

BILLING CODE 4510-26-P